DEPARTMENT OF EDUCATION

Office of Innovation and Improvement; Notice of Implementation of Constitution Day and Citizenship Day; Correction

Summary: On May 24, 2005, we published in the Federal Register (70 FR 29727) a notice of implementation of Constitution Day and Citizenship Day under the Office of Innovation and Improvement.

On page 29727, first column, under the heading FOR FURTHER INFORMATION CONTACT, the telephone number provided for Alex Stein is corrected to read (202) 205-9085 and the Internet address is corrected to read constitutionday@ed.gov. In the last sentence of the section, under the heading FOR FURTHER INFORMATION CONTACT, the words “in section” are removed.

For Further Information Contact: Alex Stein, U.S. Department of Education, 400 Maryland Avenue, SW., room 4W218, Washington, DC 20202-2110. Telephone (202) 205-9085 or via Internet: constitutionday@ed.gov

If you use a telecommunications device for the deaf (TTD), you may call the Federal Relay Service (FRS) at 1-800-877-8339.

Individuals with disabilities may obtain this document in an alternative format (e.g., Braille, large print, audiotape, or computer diskette) on request by contacting the person listed above.

Electronic Access to This Document: You may view this document, as well as all other documents of this Department published in the Federal Register, in text or Adobe Portable Document Format (PDF) on the Internet at the following site: http://www.ed.gov/news/fedregister.

To use PDF you must have Adobe Acrobat Reader, which is available free at this site. If you have questions about using PDF, call the U.S. Government Printing Office (GPO), toll free, at 1-888-293-6498; or in the Washington, DC, area at (202) 512-1530.

Note: The official version of this document is the document published in the Federal Register. Free Internet access to the official edition of the Federal Register and the Code of Federal Regulations is available on GPO Access at: http://www.gpoaccess.gov/nara/index.html.

Dated: May 26, 2005.
Nina Shokraii Rees,
Assistant Deputy Secretary for Innovation and Improvement.

[FR Doc. 05-10888 Filed 5-27-05; 8:45 am]

BILLING CODE 4000-01-P